DEPARTMENT OF DEFENSE

Department of the Navy

Notice of Intent To Prepare a Supplemental Overseas Environmental Impact Statement/Supplemental Environmental Impact Statement for Employment of Surveillance Towed Array Sensor System Low Frequency Active (SURTASS LFA) Sonar

AGENCY: Department of the Navy, DOD.

ACTION: Notice.

SUMMARY: Pursuant to the National Environmental Policy Act (NEPA) Regulations 40 CFR 1502.9, and pursuant to Executive Order 12114, the Department of the Navy (Navy) is announcing its intent to prepare a Supplemental Overseas Environmental Impact Statement (SOEIS)/Supplemental Environmental Impact Statement (SEIS) for the operational employment of SURTASS LFA sonar.

SUPPLEMENTARY INFORMATION: The Final Overseas Environmental Impact Statement and Environmental Impact Statement (OEIS/EIS) for the Surveillance Towed Array Sensor System Low Frequency Active (SURTASS LFA) Sonar was completed in January 2001. The Deputy Assistant Secretary of the Navy for Environment (DASN[E]) reviewed the SURTASS LFA Sonar OEIS/EIS and, after carefully weighing the operational, scientific, technical, and environmental implications of the alternatives considered, announced the decision to employ two SURTASS LFA sonar systems with certain geographical restrictions and monitoring mitigation designed to reduce adverse effects on the marine environment. This decision, which pertained to the employment of two SURTASS LFA systems, implemented the preferred alternative, Alternative 1, identified in the Final OEIS/EIS.

DASN(E) found that the analysis in the OEIS/EIS had taken the requisite “hard look” at the environmental consequences of the decision to employ the SURTASS LFA sonar and issued the Record of Decision (ROD) on 16 July 2002.

However, in recognition of concerns raised in Federal Court over employment of the SURTASS LFA system and to further the Navy's commitment to responsible stewardship of the marine environment, DASN(E) has determined that the purposes of NEPA would be furthered by the preparation of a supplemental analysis related to employment of the system. This analysis will take the form of a SOEIS/SEIS and will provide additional information regarding the environment that could be potentially affected by employment of SURTASS LFA and additional information related to mitigation of the potential impacts of the system, focusing on identifying geographic areas and seasonal periods of high marine mammal abundance in those areas where the Navy intends to use SURTASS LFA for routine training and testing. The SOEIS/SEIS will consider this information in the context of specific potential operational areas. The SOEIS/SEIS will comply with both NEPA and Executive Order 12114.

Dated: July 16, 2003.
E. F. McDonnell,
Major, U.S. Marine Corps, Federal Register Liaison Officer.

[FR Doc. 03-19089 Filed 7-25-03; 8:45 am]

BILLING CODE 3810-FF-P